NUCLEAR REGULATORY COMMISSION

[Docket No. 52-033]

Detroit Edison Company Acceptance for Docketing of an Application for Combined License (Col) for FERMI 3

On September 18, 2008, the U.S. Nuclear Regulatory Commission (NRC, the Commission) received a combined license (COL) application from Detroit Edison Company, dated September 18, 2008, filed pursuant to Section 103 of the Atomic Energy Act and Subpart C of Part 52, “Licenses, Certifications, and Approvals for Nuclear Power Plants,” of Title 10 of the Code of Federal Regulations (10 CFR Part 52). The site location is in Monroe County, Michigan and identified as Fermi 3. A notice of receipt and availability of this application was previously published in the Federal Register (73 FR 61916 on October 17, 2008).

The NRC staff has determined that Detroit Edison Company has submitted information in accordance with 10 CFR Part 2, “Rules of Practice for Domestic Licensing Proceedings and Issuance of Orders,” and Part 52 that is sufficiently complete and acceptable for docketing. The docket number established for this application is 52-033.

The NRC staff will perform a detailed technical review of the application. Docketing of the COL application does not preclude the NRC from requesting additional information from the applicant as the review proceeds, nor does it predict whether the Commission will grant or deny the application. The Commission will conduct a hearing in accordance with Subpart L of 10 CFR Part 2; the notice of hearing and opportunity to intervene will be published at a later date. The Commission will receive a report on the application from the Advisory Committee on Reactor Safeguards in accordance with 10 CFR 52.87. If the Commission finds that the application meets the applicable standards of the Atomic Energy Act and the Commission's regulations, and that required notifications to other agencies and bodies have been made, the Commission will issue a COL, in the form and containing conditions and limitations that the Commission finds appropriate and necessary.

A copy of the application is available for public inspection at the Commission's Public Document Room located at One White Flint North, 11555 Rockville Pike (first floor), Rockville, Maryland. The application is also available at http://www.nrc.gov/reactors/new-reactors/col/Fermi.html and is accessible electronically from the Agencywide Documents Access and Management System (ADAMS) Public Electronic Reading Room on the Internet at the NRC Web site, http://www.nrc.gov/reading-rm/adams.html (ADAMS Accession No. ML082730763). Persons who do not have access to ADAMS, or who encounter problems in accessing the documents located in ADAMS, should contact the NRC Public Document Room staff by telephone at 1-(800) 397-4209, (301) 415-4737 or by e-mail to pdr@nrc.gov.

Dated at Rockville, Maryland, this 25th day of November 2008.
For the Nuclear Regulatory Commission.
Mark Tonacci,
Senior Project Manager, ESBWR/ABWR Projects Branch 2, Division of New Reactor Licensing, Office of New Reactors.

[FR Doc. E8-28567 Filed 12-1-08; 8:45 am]

BILLING CODE 7590-01-P